ENVIRONMENTAL PROTECTION AGENCY

40 CFR Part 63

[OAR-2002-0031; FRL-7992-8]

RIN 2060-AK50

National Emission Standards for Hazardous Air Pollutants for Primary Aluminum Reduction Plants

AGENCY: Environmental Protection Agency (EPA).

ACTION: Final rule; amendments.

SUMMARY: EPA is amending the national emission standards for hazardous air pollutants (NESHAP) for primary aluminum reduction plants. The amendments will revise the emission limit for polycyclic organic matter (POM) applicable to one potline subcategory. The amendments will revise the compliance provisions to clarify the dates by which all plants must meet the NESHAP requirements, and to specify the time allowed to demonstrate initial compliance for a new or reconstructed potline, anode bake furnace, or pitch storage tank as well as an existing potline or anode bake furnace that has been shutdown and subsequently restarted. We are making these amendments to reduce compliance uncertainties and improve understanding of the NESHAP requirements.

EFFECTIVE DATE: November 2, 2005.

ADDRESSES: The EPA has established a docket for this action under Docket ID No. OAR-2002-0031. All documents in the docket at listed in the EDOCKET index at http://docket.epa.gov/edkpub/index.jsp. Although listed in the index, some information is not publicly available, i.e., confidential business information or other information whose disclosure is restricted by statute. Certain other material, such as copyrighted material, is not placed on the Internet and will be publicly available only in hard copy form. Publicly available docket materials are available either electronically in EDOCKET or in hard copy at the EPA Docket Center, Docket ID Number OAR-2002-0031, EPA West Building, Room B102, 1301 Constitution Ave., NW., Washington, DC. The Public Reading Room is open from 8:30 a.m. to 4:30 p.m., Monday through Friday, excluding legal holidays. The telephone number for the Public Reading Room is (202) 566-1744, and the telephone number for the EPA Docket Center is (202) 566-1742. A reasonable fee may be charged for copying docket materials.

FOR FURTHER INFORMATION CONTACT: Dr. Donna Lee Jones, EPA, Office of Air Quality Planning and Standards, Emission Standards Division, Metals Group (C439-02), Research Triangle Park, NC 27711, telephone number (919) 541-5251, fax number (919) 541-3207, e-mail address: Jones.DonnaLee@epa.gov.

SUPPLEMENTARY INFORMATION: Regulated Entities. The regulated categories and entities affected by the NESHAP include:

Category | NAICS code ¹ | Examples of regulated entities
Industry | 331312 | Establishments primarily engaged in producing primary aluminum by electrolytically reducing alumina.
Federal government |  | Not affected.
State/local/tribal government |  | Not affected.
¹ North American Industry Classification System.

This table is not intended to be exhaustive, but rather provides a guide for readers regarding entities likely to be regulated by this action. To determine whether your facility is regulated by this action, you should examine the applicability criteria in 40 CFR 63.840 of subpart LL (NESHAP for Primary Aluminum Reduction Plants). If you have any questions regarding the applicability of this action to a particular entity, consult either the air permit authority for the entity or your EPA regional representative as listed in 40 CFR 63.13 (General Provisions).

Worldwide Web (WWW). In addition to being available in the docket, an electronic copy of today's final amendments will also be available on the Worldwide Web through the Technology Transfer Network (TTN). Following signature, a copy of the final amendments will be posted on the TTN's policy and guidance page for newly proposed or promulgated rules at the following address: http://www.epa.gov/ttn/oarpg/. The TTN provides information and technology exchange in various areas of air pollution control.

Judicial Review. Under section 307(b)(1) of the Clean Air Act (CAA), judicial review of the final amendments is achievable only by filing a petition for review in the U.S. Court of Appeals for the District of Columbia Circuit by January 3, 2006. Under CAA section 307(d)(7)(B), only an objection to the amendments which was raised with reasonable specificity during the period for public comment can be raised during judicial review. Under CAA section 307(b)(2), the requirements that are established by this final action may not be challenged later in civil or criminal proceedings brought by EPA to enforce these requirements.

Outline. The information presented in this preamble is organized as follows:

I. Background

II. Summary of the Final Amendments

A. What Is the Final POM Emission Limit for VSS2 Potlines?

B. What are the final changes to the compliance provisions?

III. Response to Comments on the Proposed Amendments

IV. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions Concerning Regulations That Significantly Affect Energy Supply, Distribution, or Use

I. National Technology Transfer Advancement Act

J. Congressional Review Act

I. Background

Section 112 of the CAA establishes a technology-based program to reduce stationary source emissions of hazardous air pollutants (HAP) from major sources. Major sources of HAP are those that have the potential to emit greater than 10 tons/year of any one HAP or 25 tons/year of any combination of HAP. The CAA requires the national emission standards to reflect the maximum degree of reduction in HAP emissions that is achievable. This level of control is commonly known as the maximum achievable control technology (MACT).

We issued the NESHAP for primary aluminum plants (40 CFR part 63, subpart LL) on October 7, 1997 (62 FR 52384). The NESHAP contain emission limits and standards for total fluorides (TF), which is a surrogate for hydrogen fluoride, and POM. These limits apply to each new or existing potline, paste production plant, and anode bake furnace and to each new pitch storage tank associated with primary aluminum production and located at a major source.

After promulgation, industry representatives identified two significant compliance-related issues:

• Review of the POM emission limit for the vertical stud Soderberg-2 (VSS2) subcategory of existing potlines, based on the availability of additional data; and

• The date by which the owner or operator must conduct a performance test to demonstrate initial compliance for an existing potline or anode bake furnace that has been shut down and subsequently restarted.

We received a petition from the industry requesting amendments to revise the POM emission limits for VSS2 potlines. As part of the request, the petition included additional test data (collected from 1999 through 2000) for all VSS2 potlines. We agreed to analyze the additional data and evaluate the achievability of the existing MACT limit for POM.

We proposed amendments to the existing rule on March 17, 2003 (68 FR 12645). We provided a 60-day comment period for the proposed amendments and received a total of five comment letters. Three of the comment letters were from interested private citizens, one was unrelated to this rulemaking, and one was from the industry trade association. A copy of each of these comment letters is available in the docket for this rulemaking (Docket ID No. OAR-2002-0031). The final amendments reflect full consideration of all the comments we received.

II. Summary of the Final Amendments

A. What Is the Final POM Emission Limit for VSS2 Potlines?

The VSS2 subcategory includes all existing vertical stud Soderberg potlines. Section 63.843(a)(2)(i) of the existing rule limits POM emissions from each existing VSS2 potline to 1.8 kilograms per Megagram (kg/Mg) or 3.6 pounds per ton (lb/ton) of aluminum produced for each potline. The final amendments change the POM limit to 2.85 kg/Mg (5.7 lb/ton) of aluminum produced. Table 2 to subpart LL gives the POM emission limits for potlines at those plants that comply by emissions averaging. The final POM emission averaging limits for VSS2 potlines are:

Quarterly POM Limit (lb/ton)
[For a given number of potlines]
2 lines | 3 lines | 4 lines | 5 lines | 6 lines | 7 lines | 8 lines
5.0 | 4.7 | 4.5 | 4.4 | 4.3 | 4.2 | 4.1

B. What are the final changes to the compliance provisions?

Section 63.847(a) of the existing rule currently requires the owner or operator to demonstrate initial compliance by specified dates. The final amendments clarify the introductory text of paragraph (a) by replacing the phrase “demonstrate initial compliance” with the word “comply.” This change distinguishes the compliance date of the rule from the date by which a plant must actually conduct their initial performance test.

Section 63.847(c) of the existing rule currently requires the owner or operator to conduct an initial performance test during the first month following the applicable compliance date. For a new or reconstructed affected source, the final amendments require that the owner or operator conduct the initial performance test by:

• The 180th day after startup for a potline (or potroom group). The 180-day period starts when the first pot in a potline (or potroom group) is energized.

• The 45th day from the start of the second anode bake cycle (but no later than the 180th day from the startup of the anode bake furnace).

• The 30th day after startup for a pitch storage tank (if the owner or operator elects to conduct an initial performance test rather than a design evaluation).

Today's final amendments will not change the timing of the initial performance test for existing affected sources (i.e., the initial performance test must still be conducted during the first month after the compliance date).

We are also adding performance test dates following startup of an existing potline or anode bake furnace that was shut down at the time compliance would have otherwise been required and subsequently restarted. Again, the final amendments will require 180 days after startup for a potline (or potroom group) and 45 days from the start of the second anode bake cycle (but no later than 180 days from the startup of the anode bake furnace). The amendments will also change the notification requirements in 40 CFR 63.850(a) of the existing rule to require advance notice to the Administrator at least 30 days before restart of an affected source that has been shut down.

Appendix A to 40 CFR part 63, subpart LL, shows the requirements in the NESHAP General Provisions (40 CFR part 63, subpart A) that do not apply to primary aluminum reduction plants. We are also amending appendix A to reflect the changes in performance test dates and the new notification requirement.

III. Response to Comments on the Proposed Amendments

We received only two substantive comments on the proposed amendments. Two other commenters simply stated a concern that the proposed emission limit for VSS2 potlines was too high. However, these commenters provided no additional information or rationale that would allow further consideration.

Comment: One commenter stated the 45-day period to complete startup and performance tests for an anode bake furnace is insufficient to ensure testing under normal operating conditions. The startup typically includes a refractory drying/curing cycle that may take from 45 to 120 days, depending on several factors. During the drying/curing cycle, firing rates are retarded, and in some cases, the drying cycle is performed with baked or partially-baked anodes, which results in POM emissions that are lower than normal. Consequently, a performance test conducted during the refractory drying/curing cycle is not representative of normal operation. The commenter offered two options to ensure testing under normal operating conditions: (1) start the 45-day period at the beginning of the “first anode bake cycle,” which is defined as the cycle that occurs after the “refractory drying/curing cycle”; or (2) define “anode bake cycle” to include the curing/drying step and start the 45-day period at the beginning of the second anode bake cycle.

Response: We agree with the commenter's suggestion for clarifying the time period for startup of anode bake furnaces to ensure that the performance tests are performed under normal operating conditions. We agree that anode production during the drying/curing cycle is not representative of normal operating conditions. Consequently, we changed the rule provisions in 40 CFR 63.847(c)(2)(ii) and (c)(3)(ii) to state that the 45-day period starts at the beginning of the second anode bake cycle instead of the first anode bake cycle. However, we believe that performance testing should always be completed within 180 days from the beginning of the first anode bake cycle. With this change, performance testing will occur during normal anode production after the refractory has dried and cured. We also added a definition of “anode bake cycle” to the existing rule. “Anode bake cycle” means the period during which the regularly repeated sequence of loading, preheating, firing, cooling, and removing anodes from all sections within an anode bake furnace occurs one time.

Comment: One commenter stated that increased POM emissions are not justifiable because of the serious human health effects and the potential environmental and ecological effects due to POM's persistence in the environment, potential for accumulation, and toxicity. This commenter estimates that the revised VSS2 limit will increase POM emissions by 5.6 million lbs/year based on nationwide aluminum production of 2.7 million tons/year. The commenter asks how such emissions can be considered “not economically significant” and not in need of an environmental health assessment.

Response: We do not agree with the commenter's estimate of increased POM emissions. No increase in POM emissions will occur because the limit reflects the actual level of control that has been achieved by the one plant in the VSS2 category. The POM emissions limit will ensure that this plant's POM emissions do not increase in the future. In addition, the commenter's use of total nationwide aluminum production to generate emission estimates is inappropriate because the POM limit for VSS2 potlines will affect only one plant out of over 20 primary aluminum plants. Consequently, the commenter's assertion of increased emissions from primary aluminum plants has no basis in fact.

The revised emission limit correctly reflects MACT for potlines in the VSS2 subcategory based on CAA requirements. Our rationale for the revised POM limit for VSS2 potlines is detailed in the preamble to the proposed amendments (51 FR 12645, 12648; March 17, 2003), and a copy of our analysis of the data is included in the docket.

We understand the commenter's concern about the potential health effects of POM. Section 112(f) of the CAA requires that we evaluate health risks and ecological effects within 8 years after the promulgation of the MACT standards. If the technology-based standards are found not to be protective of public health and the environment, CAA section 112(f) requires us to promulgate more stringent standards that protect the public health with an ample margin of safety and reasonably prevent adverse environmental effects. These potential impacts will be fully evaluated in our upcoming review of the existing rule.

IV. Statutory and Executive Order Reviews

A. Executive Order 12866: Regulatory Planning and Review

Under Executive Order 12866 (58 FR 51735, October 4, 1993), EPA must determine whether the regulatory action is “significant” and, therefore, subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

It has been determined that the final amendments are not a “significant regulatory action” under the terms of Executive Order 12866 and are, therefore, not subject to OMB review.

B. Paperwork Reduction Act

This action does not impose any new information collection burden. The requirement for advance notification of startup for an existing affected source that has been shut down has no impact because similar advance notification is already required for a new or reconstructed affected source. However, OMB has previously approved the information collection requirements contained in the existing rule (40 CFR part 63, subpart LL) under the provisions of the Paperwork Reduction Act, 44 U.S.C. 3501 et seq., and has assigned OMB control number 2060-0360, EPA Information Collection Request (ICR) No. 1767.04. A copy of the OMB-approved ICR may be obtained from Susan Auby by mail at the Office of Environmental Information, Collection Strategies Division, EPA (2822T), 1200 Pennsylvania Ave., NW., Washington, DC 20460, by e-mail at Auby.Susan@epa.gov, or by calling (202) 566-1672.

Burden means the total time, effort, or financial resources expended by persons to generate, maintain, retain, or disclose or provide information to or for a Federal agency. This includes the time needed to review instructions; develop, acquire, install, and utilize technology and systems for the purposes of collecting, validating, and verifying information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR part 63 are listed in 40 CFR part 9.

C. Regulatory Flexibility Act

The EPA has determined that it is not necessary to prepare a regulatory flexibility analysis in connection with the final amendments. For the purposes of assessing the impact of today's final amendments on small entities, small entity is defined as: (1) A small business as defined by the Small Business Administration's regulations at 13 CFR 121.201; (2) a small government jurisdiction that is a government of a city, county, town, school district or special district with a population of less than 50,000; and (3) a small organization that is any not-for-profit enterprise which is independently owned and operated and that is not dominant in its field.

After considering the economic impacts of today's final rule amendments on small entities, EPA has concluded that this action will not have a significant economic impact on a substantial number of small entities. The final amendments will not impose any requirements on small entities. None of the plants in this industry is classified as a small entity.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires the EPA to identify and consider a reasonable number of regulatory alternatives and adopt the least costly, most cost-effective, or least burdensome alternative that achieves the objectives of the rule. The provisions of section 205 do not apply when they are inconsistent with applicable law. Moreover, section 205 allows the EPA to adopt an alternative other than the least-costly, most cost-effective, or least burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the final amendments do not contain a Federal mandate that may result in expenditures of $100 million or more for State, local, and tribal governments, in the aggregate, or the private sector in any 1 year. No costs are attributable to the final amendments. Thus, the final amendments are not subject to the requirements of sections 202 and 205 of the UMRA. The EPA has also determined that the final amendments contain no regulatory requirements that might significantly or uniquely affect small governments. Thus, today's final amendments are not subject to the requirements of section 203 of the UMRA.

E. Executive Order 13132: Federalism

Executive Order 13132 (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The final amendments do not have federalism implications. They will not have substantial direct effects on the States, on the relationship between the national government and the States, or on the distribution of power and responsibilities among the various levels of government, as specified in Executive Order 13132. None of the affected facilities are owned or operated by State governments. Thus, Executive Order 13132 does not apply to the final amendments.

F. Executive Order 13175: Consultation and Coordination With Indian Tribal Governments

Executive Order 13175 (65 FR 67249, November 9, 2000) requires EPA to develop an accountable process to ensure “meaningful and timely input by tribal officials in the development of regulatory policies that have tribal implications.” The final amendments do not have tribal implications, as specified in Executive Order 13175. They will not have substantial direct effects on tribal governments, on the relationship between the Federal government and Indian tribes, or on the distribution of power and responsibilities between the Federal government and Indian tribes. No tribal governments own facilities subject to the rule. Thus, Executive Order 13175 does not apply to the final amendments.

G. Executive Order 13045: Protection of Children From Environmental Health and Safety Risks

Executive Order 13045 (62 FR 19885, April 23, 1997) applies to any rule that: (1) is determined to be “economically significant” as defined under Executive Order 12866, and (2) concerns an environmental health or safety risk that EPA has reason to believe may have a disproportionate effect on children. If the regulatory action meets both criteria, the EPA must evaluate the environmental health or safety effects of the planned rule on children, and explain why the planned regulation is preferable to other potentially effective and reasonably feasible alternatives considered by the Agency.

EPA interprets Executive Order 13045 as applying only to regulatory actions that are based on health or safety risks, such that the analysis required under section 5-501 of the Executive Order has the potential to influence the regulation. The final amendments are not subject to Executive Order 13045 because they are based on control technology and not on health or safety risks.

H. Executive Order 13211: Actions Concerning Regulations That Significantly Affect Energy Supply, Distribution, or Use

The final amendments are not subject to Executive Order 13211 (66 FR 28355, May 22, 2001) because they are not a significant regulatory action under Executive Order 12866.

I. National Technology Transfer Advancement Act

Section 12(d) of the National Technology Transfer and Advancement Act (NTTAA) of 1995 (Public Law 104-113; 15 U.S.C. 272 note) directs EPA to use voluntary consensus standards (VCS) in their regulatory activities unless to do so would be inconsistent with applicable law or otherwise impracticable. The VCS are technical standards (e.g., material specifications, test methods, sampling procedures, and business practices) that are developed or adopted by one or more voluntary consensus bodies. The NTTAA directs EPA to provide Congress, through OMB, explanations when the Agency does not use available and applicable VCS.

The final amendments do not involve technical standards. Therefore, EPA is not considering the use of any VCS.

J. Congressional Review Act

The Congressional Review Act, 5 U.S.C. 801 et seq., as added by the Small Business Regulatory Enforcement Act of 1996, generally provides that before a rule may take effect, the agency promulgating the rule must submit a rule report, which includes a copy of the rule, to each House of the Congress and to the Comptroller General of the United States. The EPA will submit a report containing the final amendments and other required information to the U.S. Senate, the U.S. House of Representatives, and the Comptroller General of the United States prior to publication of the final amendments in the Federal Register. A major rule cannot take effect until 60 days after it is published in the Federal Register. This action is not a “major rule” as defined by 5 U.S.C. 804(2). The amendments will be effective on November 2, 2005.

List of Subjects in 40 CFR Part 63

Environmental protection, Air pollution control, Hazardous substances, Reporting and recordkeeping requirements.

Dated: October 25, 2005.
Stephen L. Johnson,
Administrator.

For the reasons stated in the preamble, title 40, chapter I, part 63 of the Code of Federal Regulations is amended as follows:

PART 63—[AMENDED]

1. The authority citation for part 63 continues to read as follows:

Authority: 42 U.S.C. 7401 et seq.

Subpart LL—[Amended]

2. Section 63.842 is amended by adding, in alphabetical order, a definition for the term, “Anode bake cycle” to read as follows:

§ 63.842 Definitions.

* * * * *

Anode bake cycle means the period during which the regularly repeated sequence of loading, preheating, firing, cooling, and removing anodes from all sections within an anode bake furnace occurs one time.

* * * * *

3. Section 63.843 is amended by revising paragraph (a)(2)(iii) to read as follows:

§ 63.843 Emission limits for existing sources.

(a) * * *

(2) * * *

(iii) 2.85 kg/Mg (5.7 lb/ton) of aluminum produced for each VSS2 potline.

* * * * *

4. Section 63.847 is amended by revising paragraph (a) introductory text and paragraph (c) to read as follows:

§ 63.847 Compliance provisions.

(a) Compliance dates. The owner or operator of a primary aluminum plant must comply with the requirements of this subpart by:

* * * * *

(c) Performance test dates. Following approval of the site-specific test plan, the owner or operator must conduct a performance test to demonstrate initial compliance according to the procedures in paragraph (d) of this section. If a performance test has been conducted on the primary control system for potlines or for the anode bake furnace within the 12 months prior to the compliance date, the results of that performance test may be used to demonstrate initial compliance. The owner or operator must conduct the performance test:

(1) During the first month following the compliance date for an existing potline (or potroom group) or anode bake furnace;

(2) By the date determined according to the requirements in paragraph (c)(2)(i), (ii), or (iii) of this section for a new or reconstructed potline, anode bake furnace, or pitch storage tank (for which the owner or operator elects to conduct an initial performance test):

(i) By the 180th day following startup for a potline or potroom group. The 180-day period starts when the first pot in a potline or potroom group is energized.

(ii) By the 45th day from the start of the second anode bake cycle (but no later than the 180th day from the startup of the anode bake furnace).

(iii) By the 30th day following startup for a pitch storage tank. The 30-day period starts when the tank is first used to store pitch.

(3) By the date determined according to the requirements in paragraph (c)(3)(i) or (ii) of this section for an existing potline or anode bake furnace that was shut down at the time compliance would have otherwise been required and is subsequently restarted:

(i) By the 180th day following startup for a potline or potroom group. The 180-day period starts when the first pot in a potline or potroom group is energized.

(ii) By the 45th day from the start of the second anode bake cycle (but no later than the 180th day from the startup of the anode bake furnace).

* * * * *

5. Section 63.850 is amended by:

a. Revising paragraph (a)(7);

b. Revising paragraph (a)(8); and

c. Adding paragraph (a)(9) to read as follows:

§ 63.850 Notification, reporting, and recordkeeping requirements.

(a) * * *

(7) One-time notification for each affected source of the intent to use an HF continuous emission monitor;

(8) Notification of compliance approach. The owner or operator shall develop and submit to the applicable regulatory authority, if requested, an engineering plan that describes the techniques that will be used to address the capture efficiency of the reduction cells for gaseous hazardous air pollutants in compliance with the emission limits in §§ 63.843, 63.844, and 63.846; and

(9) One-time notification of startup of an existing potline or potroom group, anode bake furnace, or paste production plant that was shut down for a long period and subsequently restarted. The owner or operator must provide written notice to the Administrator at least 30 days before the startup.

* * * * *

6. Table 2 to subpart LL is amended by revising the entry for “VSS2 potlines” to read as follows:

Table 2 to Subpart LL of Part 63.—Potline POM Limits for Emission Averaging
Type | Quarterly POM limit (lb/ton) [for given number of potlines]: 2 lines | Quarterly POM limit (lb/ton) [for given number of potlines]: 3 lines | Quarterly POM limit (lb/ton) [for given number of potlines]: 4 lines | Quarterly POM limit (lb/ton) [for given number of potlines]: 5 lines | Quarterly POM limit (lb/ton) [for given number of potlines]: 6 lines | Quarterly POM limit (lb/ton) [for given number of potlines]: 7 lines | Quarterly POM limit (lb/ton) [for given number of potlines]: 8 lines
* * * * * * *
VSS2 | 5.0 | 4.7 | 4.5 | 4.4 | 4.3 | 4.2 | 4.1

7. Appendix A to subpart LL is amended by revising the title of appendix A and by adding new entries, in numerical order, for § 63.7(a)(2)(ii) and (iii) and § 63.9(b)(1)-(5) to read as follows:

Appendix A to Subpart LL of Part 63.—Applicability of General Provisions
[40 CFR part 63, subpart A]
General provisions citation | Requirement | Applies to subpart LL | Comment
* * * * * * *
63.7(a)(2)(ii) and (iii) | Performance testing requirements | No | Subpart LL specifies performance test dates.
* * * * * * *
63.9(b)(1)-(5) | Initial notifications | Yes, except as noted in “comment” column | § 63.850(a)(9) includes requirement for startup of an existing affected source that has been shut down.
* * * * * * *

[FR Doc. 05-21840 Filed 11-1-05; 8:45 am]

BILLING CODE 6560-50-P